POSTAL SERVICE

Transfer of Outbound Single-Piece First-Class Mail International Packages and Rolls to Competitive Product List

AGENCY: Postal Service ™.

ACTION: Notice.

SUMMARY: The Postal Service hereby provides notice that it has filed a request with the Postal Regulatory Commission to transfer Outbound Single-Piece First-Class Mail International Packages (Small Packets) and Rolls from the market-dominant product list to the competitive product list.

DATES: Effective date: August 17, 2012.

FOR FURTHER INFORMATION CONTACT: Caroline Brownlie, 202-268-3010.

SUPPLEMENTARY INFORMATION: On August 10, 2012, the United States Postal Service® filed with the Postal Regulatory Commission a Request of the United States Postal Service to transfer Outbound Single-Piece First-Class Mail Packages (Small Packets) and Rolls from the Mail Classification Schedule's Market-Dominant Product List to its Competitive Product List, pursuant to 39 U.S.C. 3642. The transfer would take place in two steps: First, Outbound Single-Piece First-Class Mail International Packages (Small Packets) and Rolls will be removed from the market-dominant product list; and second, a nearly identical new product, titled “First-Class Package International Service ™” (FCPIS), will be added to the competitive product list. Documents pertinent to this request are available at http://www.prc.gov, Docket No. MC2012-44.

Stanley F. Mires,
Attorney, Legal Policy & Legislative Advice.

[FR Doc. 2012-20181 Filed 8-16-12; 8:45 am]

BILLING CODE 7710-12-P